DEPARTMENT OF COMMERCE

National Oceanic and Atmospheric Administration

50 CFR Part 648

[Docket No. 0910051338-0151-02]

RIN 0648-XA732

Fisheries of the Northeastern United States; Northeast Multispecies Fishery; Correction to Cod Landing Limit for Handgear B Vessels in the Common Pool Fishery

AGENCY: National Marine Fisheries Service (NMFS), National Oceanic and Atmospheric Administration (NOAA), Commerce.

ACTION: Temporary rule; inseason adjustment of landing limit.

SUMMARY: NMFS is decreasing the Gulf of Maine and Georges Bank cod landing limit to 50 lb (22.7 kg) and 25 lb (11.3 kg) per trip for Northeast multispecies open access Handgear B permitted vessels fishing in the common pool fishery for the remainder of the 2011 fishing year (through April 30, 2012). This action is authorized under the authority of the Magnuson-Stevens Fishery Conservation and Management Act (Magnuson-Stevens Act), and is required by the regulations implementing the Northeast Multispecies Fishery Management Plan.

DATES: Effective October 3, 2011, through April 30, 2012.

FOR FURTHER INFORMATION CONTACT: Brett Alger, Fisheries Management Specialist, (978) 675-2153, fax (978) 281-9135.

SUPPLEMENTARY INFORMATION: Regulations governing possession and landing limits for Handgear B (HB) vessels fishing under common pool regulations at § 648.88(a)(1) state that the HB cod trip limit for the Gulf of Maine (GOM) and Georges Bank (GB) shall be adjusted proportionally (rounded up to the nearest 25 lb (11.3 kg)) “if either the GOM or GB cod trip limit applicable to a vessel fishing under a Northeast (NE) multispecies day-at-sea (DAS) permit, as specified in § 648.86(b)(1) and (2), respectively, is adjusted by NMFS.” The initial GOM and GB cod trip limits for NE multispecies common pool vessels fishing under a day-at-sea (DAS) are set at 800 lb (362.9 kg) per DAS and 2,000 lb (907.2 kg) per DAS respectively. However, for fishing year (FY) 2011, Framework Adjustment 45 (FW 45) reduced the initial GOM cod trip limit to 500 lb (226.8 kg) per DAS from 800 lb (362.9 kg) per DAS (76 FR 23042; April 25, 2011). An inseason adjustment on May 24, 2011, increased the GB cod trip limit to 3,000 lb (1,360.8 kg) per DAS from 2,000 lb (907.2 kg) per DAS (76 FR 30035; May 24, 2011). A second inseason adjustment, on August 30, 2011, decreased the GOM cod trip limit to 350 lb (158.8 kg) per DAS and the GB cod trip limit to 300 lb (136.1 kg) per DAS (76 FR 53832, August 30, 2011). Due to an oversight, the HB trip limits for GOM and GB cod were not adjusted at the beginning of FY 2011 through the FW 45 final rule, at the time of the first inseason adjustment, or the most recent inseason adjustment.

In the GOM, the current 350 lb (158.8 kg) per DAS landing limit represents a 56.3-percent reduction from the initial 800 lb (362.9 kg) per DAS limit. Therefore, the landing limit for HB vessels for GOM cod is reduced to 50 lb (22.7 kg) per trip (75 lb (34.0 kg) per trip reduced by 56.3 percent = 32.8 lb (14.9 kg) per trip, rounded up to 50 lb (22.7 kg) per trip). On GB, the current 300 lb (136.1 kg) per DAS landing limit represents an 85-percent reduction from the initial 2,000 lb (907.2 kg) per DAS limit. Therefore, the landing limit for HB vessels for GB cod is reduced to 25 lb (11.3 kg) per trip (75 lb (34.0 kg) per trip reduced by 85.0 percent = 11.3 lb (5.1 kg) per trip, rounded up to 25 lb (11.3 kg) per trip). To correct the oversights in the previous actions, NMFS is reducing the trip limit for GOM cod to 50 lb (22.7 kg) per trip and GB cod to 25 lb (11.3 kg) per trip for NE multispecies HB permitted vessels in the common pool fishery for the remainder of FY 2011 (through April 30, 2012).

Catch will be closely monitored through dealer-reported landings, vessel monitoring system (VMS) catch reports, and other available information. NMFS may consider future inseason adjustments to decrease the trip limit, or to increase differential DAS measures, based on updated catch data and projections. Conversely, if the common pool sub-annual catch limit (ACL) is projected to be under-harvested by the end of FY 2011, NMFS will consider in-season adjustments, such as increasing the trip limit for the remainder of FY 2011.

Classification

This action is authorized by 50 CFR part 648 and is exempt from review under Executive Order 12866.

The Assistant Administrator for Fisheries, NOAA (AA) finds good cause pursuant to 5 U.S.C. 553(b)(3)(B) to waive prior notice and the opportunity for public comment for this inseason adjustment because notice and comment would be impracticable and contrary to the public interest. The regulations at § 648.86(o) grant the RA authority to adjust the NE multispecies trip limits for common pool vessels in order to prevent the overharvest or underharvest of the pertinent common pool sub-ACLs. This action decreases the trip limits for GOM and GB cod to reduce their harvest in order to prevent the common pool sub-ACLs from being exceeded. The time necessary to provide for prior notice and comment would prevent NMFS from implementing the necessary trip limit adjustments in a timely manner. A resulting delay in the reduction of trip limits would allow for continued higher catch rates and potentially allow the pertinent common pool sub-ACLs to be exceeded. This is contrary to NMFS's obligation under the Magnuson-Stevens Act to prevent overfishing. Further, if the sub-ACLs are exceeded, this would trigger the implementation of accountability measures that would have negative economic impacts on the participants in the common pool. Giving effect to this rule as soon as possible will prevent these unnecessary impacts.

Further, the AA finds good cause pursuant to 5 U.S.C. 553(d)(3) to waive the 30-day delay in effectiveness for this action. This action decreases the trip limits for GOM and GB cod to reduce their harvest in order to prevent the common pool sub-ACLs from being exceeded. A delay in the reduction of trip limits would allow for continued higher catch rates and potentially allow the pertinent common pool sub-ACLs to be exceeded. This is contrary to NMFS's obligation under the Magnuson-Stevens Act to prevent overfishing. Further, if the sub-ACLs are exceeded, this would trigger the implementation of accountability measures that will have negative economic impacts on the participants in the common pool. Giving effect to this rule as soon as possible will prevent these unnecessary impacts

Authority: 16 U.S.C. 1801 et seq.

Dated: September 28, 2011.
Steven Thur,
Acting Director, Office of Sustainable Fisheries, National Marine Fisheries Service.

[FR Doc. 2011-25431 Filed 9-30-11; 8:45 am]

BILLING CODE 3510-22-P